INTERNATIONAL TRADE COMMISSION

[Investigation Nos. 701-TA-650-651 (Final) (Second Remand)]

Phosphate Fertilizers From Morocco and Russia

AGENCY: United States International Trade Commission.

ACTION: Notice of remand proceedings.

SUMMARY: The U.S. International Trade Commission (“Commission”) hereby gives notice of the procedures it intends to follow to comply with the court-ordered remand of its final determination in the countervailing duty investigations concerning phosphate fertilizers from Morocco and Russia. For further information concerning the conduct of these remand proceedings and rules of general application, consult the Commission's Rules of Practice and Procedure.

DATES: June 4, 2025.

FOR FURTHER INFORMATION CONTACT: Calvin Chang ((202) 205-3358), Office of Investigations, or Courtney McNamara ((202) 205-3095), Office of General Counsel, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for Investigation Nos. 701-TA-650-651 (Final) (Second Remand) may be viewed on the Commission's electronic docket (EDIS) at https://edis.usitc.gov.

SUPPLEMENTARY INFORMATION:

Background.—In March 2021, the Commission determined that a domestic industry was materially injured by reason of imports of phosphate fertilizers from Morocco and Russia. Phosphate Fertilizers from Morocco and Russia, Inv. Nos. 701-TA-650-651 (Final), USITC Pub. 5172 (March 2021). Respondents, OCP S.A and EuroChem North America Corporation, contested the Commission's determinations before the U.S. Court of International Trade (“CIT”), along with PhosAgro PJSC, International Materials Ltd., and Koch Fertilizer. On September 23, 2023, the CIT issued an order remanding the case to the Commission. OCP, S.A. v. United States, 658 F. Supp. 3d 1297, 1324 (Ct. Int'l Trade 2023).

On January 17, 2024, the Commission filed its remand results in which it continued to find that the domestic industry was materially injured by reason of subject imports. Phosphate Fertilizers from Morocco and Russia, Inv. Nos. 701-TA-650-651, USITC Pub. 5490 (Jan. 2024) (Final) (Remand). On April 22, 2025, the CIT issued a decision under seal in which it remanded the Commission's decision for further proceedings. OCP S.A. v. United States, Consol. Ct. No. 21-00219, Slip Op. No. 25-51 (April 22, 2025) (“OCP III”). The CIT's decision has not been publicly released at this time.

Participation in the remand proceedings.—Only those persons who were interested parties that participated in the investigations of Phosphate Fertilizers from Morocco and Russia and were also parties to the appeal may participate in these remand proceedings. Such persons need not file any additional appearances with the Commission to participate in the remand proceedings, unless they are adding new individuals to the list of persons entitled to receive business proprietary information (“BPI”) under administrative protective order (“APO”). BPI referred to during the remand proceedings will be governed, as appropriate, by the APO issued in the investigations. The Secretary will maintain a service list containing the names and addresses of all persons or their representatives who are parties to the remand proceedings, and the Secretary will maintain a separate list of those authorized to receive BPI under the administrative protective order during the remand proceedings.

Written submissions.—The Commission is not reopening the record and will not accept the submission of new factual information for the record. The Commission will permit the parties entitled to participate in the remand proceedings to file comments concerning how the Commission could best comply with the court's remand instructions.

The comments must be based solely on the information in the Commission's record. The Commission will reject submissions containing additional factual information or arguments pertaining to issues other than those on which the court has remanded this matter. The deadline for filing comments is June 20, 2025. Comments must be limited to no more than twenty-five (25) double-spaced and single-sided pages of textual material, inclusive of attachments and exhibits.

Parties are advised to consult with the Commission's Rules of Practice and Procedure, part 201, subparts A through E (19 CFR part 201), and part 207, subpart A (19 CFR part 207) for provisions of general applicability concerning written submissions to the Commission. All written submissions must conform to the provisions of section 201.8 of the Commission's rules; any submissions that contain BPI must also conform with the requirements of sections 201.6, 207.3, and 207.7 of the Commission's rules. Please note the Secretary's Office will accept only electronic filings at this time. Filings must be made through the Commission's Electronic Document Information System (EDIS, https://edis.usitc.gov). No in-person paper-based filings or paper copies of any electronic filings will be accepted until further notice. The Commission's Handbook on E-Filing, available on the Commission's website at http://edis.usitc.gov, elaborates upon the Commission's rules with respect to electronic filing.

Additional written submissions to the Commission, including requests pursuant to section 201.12 of the Commission's rules, will not be accepted unless good cause is shown for accepting such submissions or unless the submission is pursuant to a specific request by a Commissioner or Commission staff.

In accordance with sections 201.16(c) and 207.3 of the Commission's rules, each document filed by a party to the investigation must be served on all other parties to the investigation (as identified by either the public or BPI service list), and a certificate of service must be timely filed. The Secretary will not accept a document for filing without a certificate of service.

By order of the Commission.
Issued: June 4, 2025.
Lisa Barton,
Secretary to the Commission.

[FR Doc. 2025-10452 Filed 6-9-25; 8:45 am]

BILLING CODE 7020-02-P